DEPARTMENT OF THE INTERIOR

Fish and Wildlife Service

[FWS-HQ-MB-2017-N060; 91100-3740-GRNT 7C]

Announcement of Public Meeting of the North American Wetlands Conservation Council

AGENCY: Fish and Wildlife Service, Interior.

ACTION: Notice of meeting.

SUMMARY: The North American Wetlands Conservation Council will meet in Fergus Falls, Minnesota, to select U.S. Standard grant proposals for reporting to the Migratory Bird Conservation Commission under the North American Wetlands Conservation Act. This meeting is open to the public, and interested persons may present oral or written statements.

DATES: Meeting: The meeting is scheduled for June 13, 2018, at 8:00 a.m. Central Daylight Saving Time.

Participation: If you wish to participate in the meeting via calling in, making a presentation, or submitting information beforehand, contact the Council Coordinator (see FOR FURTHER INFORMATION CONTACT) no later than June 6, 2018.

ADDRESSES: Meeting location: The meeting will take place in the Prairie Wetlands Learning Center, 602 Minnesota State Hwy. 210 East, Fergus Falls, Minnesota 56537. If you are interested in presenting information at the meeting or participating via telephone, contact the Council Coordinator by the date specified in DATES.

Submitting information: Comments must be submitted by the date specified in DATES by one of the following methods:

• U.S. mail or hand-delivery: U.S. Fish and Wildlife Service, 5275 Leesburg Pike MS: MB, Falls Church, VA 22041.

• Email: dbhc@fws.gov.

FOR FURTHER INFORMATION CONTACT: Sarah Mott, Council Coordinator, by phone at 703-358-1784. Persons who use a telecommunications device for the deaf (TDD) may call the Federal Relay Service (FRS) at 1-800-877-8339 during normal business hours. In addition, FRS is available 24 hours a day, 7 days a week, to leave a message or question. You will receive a reply during normal business hours.

SUPPLEMENTARY INFORMATION:

Background

In accordance with the North American Wetlands Conservation Act (NAWCA; 16 U.S.C. 4401-4412), the State-private-Federal North American Wetlands Conservation Council (Council) meets to consider wetland acquisition, restoration, enhancement, and management projects for recommendation to, and final funding approval by, the Migratory Bird Conservation Commission. The seven-member Commission was established in 1929 by the passage of the Migratory Bird Conservation Act (16 U.S.C. 715 et seq.) primarily to consider and approve areas of land or water recommended by the Secretary of the Interior for purchase by the U.S. Fish and Wildlife Service. In 1989, the Commission acquired the additional responsibility to approve project funding under NAWCA.

The NAWCA program operates in two cycles per year. Each cycle, eligible proposals are reviewed and ranked by the nine-member Council. NAWCA provides matching grants to organizations and individuals who have developed partnerships to carry out wetlands conservation projects in the United States, Canada, and Mexico. These projects must involve long-term protection, restoration, and/or enhancement of wetlands and associated uplands habitats for the benefit of all wetlands-associated migratory birds. Project proposal due dates, application instructions, and eligibility requirements are available on the NAWCA website at www.fws.gov/birds/grants/north-american-wetland-conservation-act.php.

Public Input

Submitting Written Information or Questions

Interested members of the public may submit relevant information or questions to be considered during the meeting. If you wish to submit a written statement so that information may be made available to the Council for their consideration prior to the meeting, you must contact the Council Coordinator by the date in DATES. Written statements must be supplied to the Council Coordinator in both of the following formats: One hard copy with original signature, and one electronic copy via email (acceptable file formats are Adobe Acrobat PDF, MS Word, MS PowerPoint, or rich text file).

Giving an Oral Presentation

Individuals or groups requesting to make an oral presentation during the meeting will be limited to 2 minutes per speaker, with no more than a total of 10 minutes for all speakers. Interested parties should contact the Council Coordinator by the date in DATES, in writing (preferably via email; see ADDRESSES), to be placed on the public speaker list. Nonregistered public speakers will not be considered during the meeting. Registered speakers who wish to expand upon their oral statements, or those who had wished to speak but could not be accommodated on the agenda, are invited to submit written statements to the Council within 30 days following the meeting.

Meeting Minutes

Summary minutes of the Council meeting will be maintained by the Council Coordinator (see FOR FURTHER INFORMATION CONTACT). Meeting notes will be available by contacting the Council Coordinator within 30 days following the meeting. Personal copies may be purchased for the cost of duplication.

Dated: May 11, 2018.
Jerome Ford,
Assistant Director, Migratory Birds.

[FR Doc. 2018-11601 Filed 5-30-18; 8:45 am]

BILLING CODE 4333-15-P